DEPARTMENT OF HOMELAND SECURITY

Coast Guard

33 CFR Part 100

[Docket No. USCG-2013-0161]

Special Local Regulations; Recurring Marine Events in the Seventh Coast Guard District; St. Croix, U.S.V.I.

AGENCY: Coast Guard, DHS.

ACTION: Notice of enforcement of regulation.

SUMMARY: The Coast Guard will enforce the special local regulation for the Ironman St. Croix 70.3 Triathlon from 5 a.m. until 10 a.m. on May 5, 2013. This action is necessary to ensure safety of life on navigable waters of the United States during the Ironman St. Croix 70.3 Triathlon. During the enforcement period, the special local regulation will consist of a race area, which will exclude the presence of any and all non race participants and non safety vessels. Non-participants and non safety vessels will be prohibited from entering, transiting through, anchoring in, or remaining within the area unless authorized by the Captain of the Port San Juan or a designated representative.

DATES: This regulation will be enforced from 5 a.m. until 10 a.m. on May 5, 2013.

FOR FURTHER INFORMATION CONTACT: If you have questions on this rule, call or email CWO Anthony Cassisa, Sector San Juan Prevention Department, Coast Guard; telephone (787) 289-2073, email Anthony.J.Cassisa@uscg.mil.

SUPPLEMENTARY INFORMATION: The Coast Guard will enforce the special local regulation pertaining to a Half Ironman Triathlon on the first Sunday in May for the annual Ironman St. Croix 70.3 Triathlon, located in 33 CFR 100.701 Table 1 from 5 a.m. until 10 a.m. on May 5, 2013. The 2013 event is sponsored by Project St. Croix, Inc.

Under the provisions of 33 CFR 100.701, a vessel may not enter the regulated area, unless it receives permission from the COTP. Vessels may safely transit outside the regulated area, but may not anchor, block, loiter in, or impede the race participants or official patrol vessels. The Coast Guard may be assisted by other Federal, State, or local law enforcement agencies in enforcing this regulation.

This notice is issued under authority of 33 CFR 100.701 and 5 U.S.C. 552 (a). The Coast Guard will provide notice of the regulated areas by Local Notice to Mariners, Broadcast Notice to Mariners, and on-scene designated representatives.

Dated: April 5, 2013.
D.M. Flaherty,
Captain, U.S. Coast Guard, Acting Captain of the Port, San Juan.

[FR Doc. 2013-09033 Filed 4-16-13; 8:45 am]

BILLING CODE 9110-04-P